DEPARTMENT OF THE INTERIOR

Office of the Secretary

Privacy Act of 1974; Amendment of Existing System of Records

AGENCY: Office of the Secretary, Department of the Interior.

ACTION: Proposed amendment of existing Privacy Act system of records.

SUMMARY: In accordance with the Privacy Act of 1974 (5 U.S.C. § 552a), the Office of the Secretary of the Department of the Interior is issuing public notice of its intent to amend an existing Privacy Act system of records notice, OS-02, “Individual Indian Monies (IIM) Trust Funds.” The amendments will update the contact for further information, system locations, system manager and address, categories of records in the system, authority for maintenance of the system, routine uses of records maintained in the system, storage, safeguards, retention and disposal, procedures for contesting records, and records source categories.

DATES: Comments must be received by January 28, 2009

ADDRESSES: Any persons interested in commenting on these proposed amendments to an existing system of records may do so by submitting comments in writing to the Office of the Secretary Acting Privacy Act Officer, Linda S. Thomas, U.S. Department of the Interior, MS-116 SIB, 1951 Constitution Avenue, NW., Washington DC 20240, or by e-mail to Linda_Thomas@nbc.gov.

FOR FURTHER INFORMATION CONTACT: Chief of Staff, Office of the Principal Deputy Special Trustee, 4400 Masthead Street, NE., Suite 357, Albuquerque, NM 87109.

SUPPLEMENTARY INFORMATION: In this notice, the Department of the Interior is proposing to amend Interior OS-02, Individual Indian Monies (IIM) Trust Funds to reflect enhancements to the system which will enable the Office of the Secretary, Office of the Special Trustee for American Indians (OST) to further improve the level of services provided to individual beneficiaries of the Indian trust. These changes help the Secretary carry out fiduciary responsibilities required under the American Indian Trust Fund Management Reform Act of 1994, Pub. L. 103-412, 108 Stat. 4239. In addition, these proposed amendments will update contact information, system locations, categories of records in the system, authority for maintenance of the system, routine uses of the system, records source categories, and procedures for storage, retention and disposal, and for contesting information. Thus, the Office of the Secretary proposes to amend Interior OS-02, Individual Indian Monies (IIM) Trust Funds to read as shown below. The system will be effective as proposed unless comments are received which would require a contrary determination. The Office of the Secretary will publish a revised notice if changes are made based upon a review of comments received.

Dated: December 16, 2008.
Linda S. Thomas,
Office of the Secretary, Acting Privacy Officer.

SYSTEM NAME:

Interior, OS-02, “Individual Indian Monies (IIM) Trust Funds.”

SYSTEM LOCATIONS:

(a) U.S. Department of the Interior, Office of the Special Trustee for American Indians, 4400 Masthead Street, NE., Albuquerque, NM 87109.

(b) OST field locations including area, agency, and regional offices.

(c) Offices of contractors processing individual Indian trust fund accounts.

(d) Tribal offices of tribes that have compacted or contracted the individual Indian trust fund management function from OST under the Indian Self-Determination and Education Assistance Act, Pub. L. 93-638, 88 Stat. 2203, as amended.

CATEGORIES OF INDIVIDUALS COVERED BY THE SYSTEM:

Individual Indians, Alaska Natives, or their heirs, who have accounts held in trust status by the Department of the Interior.

CATEGORIES OF RECORDS IN THE SYSTEM:

(a) Data on trust accounts in automated systems including the Trust Fund Accounting System (TFAS) and the Trust Beneficiary Call Center Tracking Software (ServiceCenter).

(b) Imaged documents concerning individual Indian trust accounts.

(c) Data related to financial and investment activity from individual Indian trust accounts.

(d) Data related to custodianship of investments for individual Indian trust accounts.

(e) Paper records related to individual Indian trust accounts, including jacket folders, and financial documents such as accounting, reconciliation, and transaction data related to receipts, disbursements, investments, and transfers.

The type of information contained in the categories above may include a person's name, aliases, sex, birth date, address, phone numbers, e-mail address, Social Security Number, account number, tribal membership number, blood quantum, and contact information for people who may know their whereabouts.

AUTHORITY FOR MAINTENANCE OF THE SYSTEM:

25 U.S.C. 116, 117(a)(b)(c), 118, 119, 120, 121, 151, 159, 161(a), 162(a), 4011, 4043(b)(2)(B).

ROUTINE USES OF RECORDS MAINTAINED IN THE SYSTEM, INCLUDING CATEGORIES OF USERS AND THE PURPOSES OF SUCH USES:

The system's main purposes are to:

(a) Manage the collection, investment, distribution, and disbursement of individual Indian trust income.

(b) Comply with relevant sections of the American Indian Trust Fund Management Reform Act of 1994, Pub. L. 103-412, 108 Stat. 4239.

(c) Improve customer satisfaction by achieving a high level of responsiveness to beneficiary inquiries by documenting and tracking each contact and providing accurate, consistent and timely resolutions.

(d) Enable beneficiaries to receive trust services in a more timely and convenient manner through modern technology.

(e) Provide information for Indian trust funds program management purposes.

Disclosures outside the Department of the Interior may be made to:

(a) Individual Indian trust account beneficiaries, their heirs, guardians, or agents.

(b) Contractors, but only after ensuring that all provisions of the Privacy Act, the Trade Secrets Act, the Indian Minerals Development Act, and all other applicable laws, regulations, and policies relating to contracting and security are met, who:

(1) Provide trust and other services to beneficiaries;

(2) Provide, use, operate or facilitate various components of the system;

(3) Service and maintain the system for the Department.

(c) The U.S. Department of Justice, or to a court, adjudicative or other administrative body, or to a party in litigation before a court or adjudicative or administrative body, when:

(1) One of the following is a party to the proceeding or has an interest in the proceeding:

(i) The Department or any component of the Department;

(ii) Any Department employee acting in his or her official capacity;

(iii) Any Department employee acting in his or her individual capacity where the Department or the Department of Justice has agreed to represent the employee; or

(iv) The United States, when the Department determines that the Department is likely to be affected by the proceeding; and

(2) We deem the disclosure to be:

(i) Relevant and necessary to the proceeding; and

(ii) Compatible with the purpose for which we compiled the information.

(d) The following components of the U.S. Department of Treasury:

(1) Financial Management Service (FMS) for the purpose of providing fiscal agency services to OST such as, but not limited to, issuing paper check disbursements to beneficiaries and operating the Direct Deposit program to send disbursements electronically to the beneficiary's account with a third-party financial institution;

(2) Internal Revenue Service (IRS) to report beneficiary taxable income on IRS Form 1099 and to collect debts owed to the government.

(e) The National Archives and Records Administration and their contractors, for the purpose of providing long-term storage of inactive individual Indian trust records at the American Indian Records Repository at Lenexa, Kansas.

(f) Another federal agency to enable that agency to respond to an inquiry by the individual to whom the record pertains.

(g)(1) To any of the following entities or individuals, when the circumstances set forth in paragraph (2) are met:

(i) The U.S. Department of Justice (DOI);

(ii) A court or an adjudicative or other administrative body;

(iii) A party in litigation before a court or an adjudicative or other administrative body; or

(iv) Any DOI employee acting in his or her individual capacity if DOI or DOJ has agreed to represent that employee or pay for private representation of the employee;

(2) When:

(i) One of the following is a party in the proceeding or has an interest in the proceeding:

(A) DOI or any component of DOI;

(B) Any other Federal agency appearing before the Office of Hearings and Appeals;

(C) Any DOI employee acting in his or her official capacity;

(D) Any DOI employee acting in his or her individual capacity if DOI has agreed to represent that employee or pay for private representation of the employee;

(E) The United States, when DOJ determines that DOI is likely to be affected by the proceeding; and

(ii) DOI deems the disclosure to be:

(A) Relevant and necessary to the proceeding; and

(B) Compatible with the purpose for which the records were compiled.

(h) A congressional office in response to an inquiry received by that office from the individual to whom the record pertains.

(i) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

The OST currently stores records in one of two ways:

(a) Paper records (such as jacket files, financial data files, ledgers, and reports) placed in file cabinets; others are stored in boxes on shelves.

(b) Automated data and images stored on appropriate media including but not limited to magnetic tape and on optical and electro-mechanical disks.

RETRIEVABILITY:

Records are retrieved using either:

(a) Identifiers linked to individual Indian trust beneficiaries such as name, social security numbers, tribe, tribal enrollment, or census numbers, or

(b) Organizational links and identifiers such as account numbers, tribal codes, trust account codes, and other identifiers.

SAFEGUARDS:

Following the requirements under 5 U.S.C. 552a(e)(10) and 43 CFR 2.51(a)(b) for security standards, as well as Office of Management and Budget and Departmental Guidance and the implementation of appropriate National Institute of Standards and Technology policies and procedures, the Office of the Secretary has taken security measures to protect system documentation by equipping our offices and workplaces with the following safeguards:

(1) Physical Security: Paper or micro format records are maintained in locked file cabinets and/or in locked or secured rooms that are staffed by agency personnel or by those under specific contract, compact or agreement to work with such records. Storage facilities are protected by locked entryways or security guards.

(2) Technical Security: Electronic records are maintained in conformity with Office of Management and Budget and Departmental guidelines reflecting the implementation of the Federal Information Security Management Act. Electronic data is protected through user identification, cipher lock, key card, and other access controls such as passwords, database permissions, and software controls.

(3) Administrative Security: All DOI and contractor employees with access to this system are required to complete Privacy Act, Federal Records Act, and Security Awareness training prior to being given access to the system, and on an annual basis, thereafter. In addition, warning signs are posted to limit access to files except by employees and contractors. Finally, there are sign-in and sign-out logs for access to storage facilities by requesters researching, acquiring, or delivering documents.

RETENTION AND DISPOSAL:

The OST creates, receives and maintains records until such time as they become inactive. The inactive records are then transferred to the American Indian Records Repository (AIRR) in Lenexa, Kansas which is operated in cooperation with the National Archives and Records Administration. Records are held in accordance with approved records retention schedules.

SYSTEM MANAGER AND ADDRESS:

Chief of Staff, Office of the Principal Deputy Special Trustee, 4400 Masthead Street NE., Suite 357, Albuquerque, NM 87109.

NOTIFICATION PROCEDURES:

To determine whether your records are in this Privacy Act system of records, contact the System Manager at the address listed above in writing. The request must meet the requirements of 43 CFR 2.60. Provide the following information with your request:

(a) Proof of your identity.

(b) List of all of the names by which you have been known, such as maiden name or alias.

(c) Your Social Security Number.

(d) Mailing address.

(e) Tribe, tribal enrollment or census number.

(f) Bureau of Indian Affairs home agency.

(g) Time period(s) that records belonging to you may have been created or maintained, to the extent known by you. (See 43 CFR 2.60(b)(3)).

RECORD ACCESS PROCEDURES:

To request access to records, contact the System Manager at the address listed above in writing. The request must meet the requirements of 43 CFR 2.63. Provide the following information with your request:

(a) Proof of your identity.

(b) List of all of the names by which you have been known, such as maiden name or alias.

(c) Your Social Security Number.

(d) Mailing address.

(e) Tribe, tribal enrollment or census number.

(f) Bureau of Indian Affairs home agency.

(g) Time period(s) that records belonging to you may have been created or maintained, to the extent known by you.

(h) Specific description or identification of the records you are requesting (including whether you are asking for a copy of all of your records or only a specific part of them), and the maximum amount of money that you are willing to pay for their copying. (See 43 CFR 4.63(b)(5)).

CONTESTING RECORD PROCEDURES:

To request an amendment of a record, contact the System Manager at the address listed above in writing. The request must meet the requirements of 43 CFR 2.71.

RECORDS SOURCE CATEGORIES:

(a) Office of the Special Trustee for American Indians, Bureau of Indian Affairs, Minerals Management Service, Bureau of Land Management, Office of Hearings and Appeals, and other appropriate agencies in the Department of the Interior. Other federal, state, and local agencies.

(b) Individual Indian trust beneficiaries, their heirs, relatives and acquaintances. Depositors into the accounts and claimants against the accounts.

(c) Tribal offices if the IIM function is contracted or compacted under the Indian Self-Determination and Education Assistance Act, Pub. L. 93-638, 88 Stat. 2203, as amended. Other tribal offices including enrollment, social services, and education.

(d) Courts of competent jurisdiction, including tribal courts.

(e) Contractors, including but not limited to:

(1) credit bureaus;

(2) news media;

(3) missing persons locators;

(4) and mail list vendors.

(5) Internet searches;

(6) public utilities; and

(7) professional, religious, and social organizations.

EXEMPTIONS CLAIMED FOR THE SYSTEM:

None.

[FR Doc. E8-30192 Filed 12-18-08; 8:45 am]

BILLING CODE 4310-10-P